DEPARTMENT OF AGRICULTURE

Forest Service

Proposed Packsaddle Creek and Rammell Hollow Timber Sales Caribou-Targhee National Forest, Teton County, ID

AGENCY: USDA Forest Service.

ACTION: Notice of intent to prepare environmental impact statement

SUMMARY: The USDA Forest Service will prepare an Environmental Impact Statement to document the analysis and disclose the environmental impacts of proposed actions to harvest timber; regenerate stands of aspen trees; and construct roads, reconstruct roads, decommission roads and meet Revised Forest Plan Standards for road densities in the Packsaddle Creek and Rammell Hollow areas of the Targhee National Forest in Teton County, Idaho. The proposed projects are located in Township 5 North, Range 44 East, Sections 18 and 19, and Township 5 North, Range 43 East, Sections 1, 2, 11, 12, 13, 14, 23, and 24, Boise Meridian, Teton County, Idaho.

The Teton Basin Ranger District of the Targhee National Forest proposes to regenerate approximately 600 acres of aspen and harvest an estimated 7,200 hundred cubic feet (3.6 million board feet) of commercial timber on two timber sales. The purpose of the proposed project is to regenerate aspen. Conifer trees will be removed in these aspen-conifer mixed stands using a timber sale contract followed by implementing prescribed fire that will burn the conifer slash and will kill the remaining aspen parent stems. The prescribed fire will stimulate the production of root suckers throughout the treated aspen-conifer stand and will establish aspen regeneration. This activity will provide an Allowable Sale Quantity of merchantable forest products to industry and help meet Properly Functioning Conditions for stand structure, stand function, and species composition for aspen stands on suitable timberlands in the Mahogany Watershed.

Following conifer harvest, approximately 400 acres of the 600 acres would receive broadcast burning to stimulate aspen regeneration. Again, following conifer harvest, the remaining approximately 200 acres would have conifer slash piled and burned and the remaining aspen trees severed with chainsaws to stimulate aspen regeneration. All treatment units considered for cutting are mature aspen-conifer mixed stands consisting of aspen, Douglas-fir, lodgepole pine, subalpine fir and Engelmann spruce. An estimated 8.0 miles of existing Forest Road would be reconstructed, 0.3 miles of new road would be constructed, and 2.9 miles of existing road would be decommissioned following treatment. Approximately 0.5 miles of road reconstruction would occur on private ground. All merchantable timber would be yarded using ground based systems such as tractors. Natural aspen regeneration is planned and expected for in all the proposed cutting units. Logging slash will be available for firewood to the public on some portions for one year. Ten to fifteen tons per acres of large woody debris will be left in each cutting unit for nutrient recycling.

The issues identified during scoping and the analysis process will determine alternatives to the proposed action. The no action alternative will be analyzed.

DATES: Written comments concerning the scope of the analysis described in this notice should be received within 30 days of the date of publication of this notice in the Federal Register. No scoping meeting are planned at this time. Information received will be used in preparation of the draft EIS and final EIS.

ADDRESSES: Send written comments to Caribou-Targhee National Forest, Teton Basin Ranger District, P.O. Box 777, Driggs, Idaho 83422.

FOR FURTHER INFORMATION CONTACT: Questions concerning the proposed action and EIS should be directed to Jim Robertson, Caribou-Targhee National Forest, Teton Basin Ranger District, 515 South Main Street, P.O. Box 777, Driggs, Idaho 83422. (Telephone: (208) 354-2312.)

SUPPLEMENTARY INFORMATION: The Forest Service is seeking information and comments from Federal, State and local agencies, as well as individuals and organizations that may be interested in, or affected by the proposed action. The Forest Service invites written comments and suggestions on the issues related to the proposal and the area being analyzed.

The responsible official is Jerry B. Reese, Forest Supervisor, Caribou-Targhee National Forest, 1405 Hollipark Dr., Idaho Falls, Idaho 83401.

The decision to be made is: The Forest Service needs to decide whether to continue the present course of action (the no action alternative) or to implement the proposed action with applicable mitigation measures, or to implement an alternative to the proposed action with its applicable mitigation measures.

The tentative date for filing the Draft EIS is August 1, 2004. The tentative date for filing the final EIS is October 1, 2004. The comment period on the draft environmental impact statement will be open for 45 days from the date the Environmental Protection Agency publishes the notice of availability in the Federal Register.

The Forest Service believes, at this early stage, it is important to give viewers notice of several court rulings related to public participation in the environmental review process. First, reviewers of draft environmental impact statements must structure their participation in the environmental review of the proposal so that it is meaningful and alert an agency to the reviewer's position and contentions. Vermont Yankee Nuclear Power Corp v. NRDC, 435 U.S. 519,(1978). Also, environmental objections that could be raised at the draft impact statement stage but are not raised until after completion of the final environmental impact statement may be waived or dismissed by the courts. City of Angoon v. Hodel , 803 F2d 1016,1022(9th Cir. 1986) and Wisconsin Heritages, Inc. v. Harris, 490 F. Supp. 1334, 1338 (E.D. Wis. 1980). Because of these court rulings, it is very important that those interested in this proposed action participate by the close of the 45-day comment period of the Draft Environmental Impact statement so that substantive comments and objections are made available to the Forest Service at a time when it can meaningfully consider them and respond to them in the Final Environmental Impact Statement. Agency representatives and other interested people are invited to visit with Forest Service officials at any time during the EIS process.

To assist the Forest service in identifying and considering issues and concerns on the proposed action, comments on the Draft Environmental Impact Statement should be as specific as possible. It is also helpful if comments refer to specific pages or chapters of the Draft. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR 215 or 217. Additionally, pursuant to 7 CFR 1.27(d), any person may request the agency to withhold a submission from the public record by showing how the Freedom of Information Act (FOIA) permits such confidentiality. Persons requesting such confidentially should be aware that, under FOIA, confidentially may be granted in only limited circumstances, such as to protect trade secrets. The Forest Service will inform the requester of the agency's decision regarding the request for confidentially, and where the request is denied; the agency will return the submission and notify the requester that the comments may be resubmitted with or without name and address within 10 days.

Dated: May 25, 2004.
Jerry B. Reese,
Forest Supervisor, Caribou-Targhee National Forest, Intermountain Region, USDA Forest Service.

[FR Doc. 04-12391 Filed 6-1-04; 8:45 am]

BILLING CODE 3410-11-M